SURFACE TRANSPORTATION BOARD

[Docket No. FD 36546]

325 South Route 31 Railroad, LLC—Operation Exemption—Tracks of 325 South Route 31, LLC in Kendall County, Ill.

325 South Route 31 Railroad, LLC (SRRR), a noncarrier, has filed a verified notice of exemption pursuant to 49 CFR 1150.31 to operate approximately 11,245 feet of track in Kendall County, Ill. (the Line), owned by its parent company, 325 South Route 31, LLC (SR), also a noncarrier. The Line is on a 350-acre industrial site located approximately 40 miles west of Chicago, Ill. (the Site). The Line has no mileposts. According to SRRR, no common carrier services are currently being offered on the Line.

According to the verified notice, SRRR will enter into an agreement with SR that will allow SRRR the rights to lease, operate, and maintain the Line.¹ SRRR states that it intends to rehabilitate some of the existing tracks prior to commencing rail service operations on the Line. SRRR states that, as the Site is being developed and as industries locate on the Line in the short term, a third party will provide switching operations on the Line by contract.² SRRR states that it plans to close the transaction on or after the effective date of this exemption.

¹ According to the verified notice, the Line historically has connected to BNSF Railway Company (BNSF) via a switch connection to two BNSF-owned ancillary tracks that run parallel to BNSF's mainline tracks that run by the Site. SRRR states that it will, through a separate agreement, also lease those ancillary tracks from BNSF.

² SRRR anticipates that Burlington Junction Railroad (BJRR) will be that third-party railroad.

SRRR states that the proposed operation of the Line does not involve any provision or agreement that would limit future interchange on the Line with a third-party connecting carrier. SRRR certifies that its projected annual revenues are not expected to exceed $5 million or exceed the level that would qualify it as a Class III rail carrier.

The earliest this transaction may be consummated is November 21, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than November 12, 2021.

All pleadings, referring to Docket No. FD 36546, should be filed with the Surface Transportation Board via e-filing on the Board's website. In addition, a copy of each pleading must be served on SRRR's representative, Thomas W. Wilcox, Law Office of Thomas W. Wilcox, LLC, 1629 K Street NW, Suite 300, Washington, DC 20006.

According to SRRR, this action is categorically excluded from environmental review under 49 CFR 1105.6(c) and from historic preservation reporting requirements under 49 CFR 1105.8(b).

Board decisions and notices are available at www.stb.gov.

Decided: November 2, 2021.
By the Board, Scott M. Zimmerman, Acting Director, Office of Proceedings.
Kenyatta Clay,
Clearance Clerk.

[FR Doc. 2021-24282 Filed 11-4-21; 8:45 am]

BILLING CODE 4915-01-P